DEPARTMENT OF HEALTH AND HUMAN SERVICES

Office of the Secretary

[Document Identifier: OS-0990-New; 60-Day Notice]

Agency Information Collection Activities: Proposed Collection; Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: New collection.

Title of Information Collection: Oklahoma Marriage Initiative Process Evaluation.

Form/OMB No.: OS-0990-New.

Use: The Office of the Assistant Secretary for Planning and Evaluation (ASPE) at the U.S. Department of Health and Human Services is requesting clearance for data collection instruments to be used in conducting a process evaluation of the Oklahoma Marriage Initiative (OMI); which will be used to examine how Oklahoma developed, revised, and refined its approaches and strategies to serve this population this will inform the next stage of marriage education services for this population. Including the focus on services for prisoners, the overall purpose of the OMI process evaluation is to document and analyze the context from which the initiative developed; its overall goals and objectives; and its evolution, organizational structure, partnerships, and service delivery system.

Frequency: Reporting, single time.

Affected Public: Regulatory or compliance, Application of benefits.

Annual Number of Respondents: 260.

Total Annual Responses: 260.

Average Burden Hours per Response: 1½ hours.

Total Annual Hours: 390.

To obtain copies of the supporting statement and any related forms for the proposed paperwork collections referenced above, access the HHS Web site address at http://www.hhs.gov/oirm/infocollect/pending/ or e-mail your request, including your address, phone number, OMB number, and OS document identifier, to Sherette.funncoleman@hhs.gov, or call the Reports Clearance Office on (202) 690-6162. Written comments and recommendations for the proposed information collections must be received within 60-days and directed to the OS Paperwork Clearance Officer at the following address: Department of Health and Human Services, Office of the Secretary, Assistant Secretary for Budget, Technology, and Finance, Office of Information and Resource Management, Attention: Sherette Funn-Coleman (0990-New), Room 531-H, 200 Independence Avenue, SW., Washington DC 20201.

Dated: August 16, 2006.
Alice Bettencourt,
Office of the Secretary, Paperwork Reduction Act Reports Clearance Officer.

[FR Doc. E6-14200 Filed 8-25-06; 8:45 am]

BILLING CODE 4150-05-P